DEPARTMENT OF LABOR

Office of the Secretary

Agency Information Collection Activities; Submission for OMB Review; Comment Request; Attestation by Employers Using Crewmembers for Longshore Activities at Locations in the State of Alaska

ACTION: Notice.

SUMMARY: The Department of Labor (DOL) is submitting the Employment and Training Administration (ETA) sponsored information collection request (ICR) titled, “Attestation by Employers Using Crewmembers for Longshore Activities at Locations in the State of Alaska,” (Form ETA-933A) to the Office of Management and Budget (OMB) for review and approval for continued use in accordance with the Paperwork Reduction Act (PRA) of 1995 (Pub. L. 104-13, 44 U.S.C. chapter 35).

DATES: Submit comments on or before October 24, 2011.

ADDRESSES: A copy of this ICR with applicable supporting documentation; including a description of the likely respondents, proposed frequency of response, and estimated total burden may be obtained from the RegInfo.gov Web site, http://www.reginfo.gov/public/do/PRAMain, on the day following publication of this notice or by sending an e-mail to DOL_PRA_PUBLIC@dol.gov.

Submit comments about this request to the Office of Information and Regulatory Affairs, Attn: OMB Desk Officer for the Department of Labor, Employment and Training Administration, Office of Management and Budget, Room 10235, Washington, DC 20503, Telephone: 202-395-6929/Fax: 202-395-6881 (these are not toll-free numbers), e-mail: OIRA_submission@omb.eop.gov.

FOR FURTHER INFORMATION CONTACT: The DOL Information Management Team by e-mail at DOL_PRA_PUBLIC@dol.gov.

SUPPLEMENTARY INFORMATION: The information collection is required by section 258 of the Immigration and Nationality Act (INA), 8 U.S.C. 1288. The INA generally prohibits the performance of longshore work by alien crewmembers; however, the INA provides an exception to this prohibition for ports in the State of Alaska. Under this Alaska exception, before any employer may use alien crewmembers to perform longshore activities in the State of Alaska, it must submit an attestation to the Secretary of Labor containing the elements prescribed by the INA at 8 U.S.C. 1288(d). The information provided on Form ETA-933A by employers seeking to use alien crewmembers to perform longshore activities in the State of Alaska permits the DOL to meet Federal responsibilities for program administration, management, and oversight.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid OMB control number. See 5 CFR 1320.5(a) and 1320.6. The DOL obtains OMB approval for this information collection under OMB Control Number 1205-0352. The current OMB approval is scheduled to expire on September 30, 2011; however, it should be noted that information collection existing information collection requirements submitted to the OMB receive a month-to-month extension while they undergo review. For additional information, see the related notice published in the Federal Register on May 10, 2011 (76 FR 27090).

Interested parties are encouraged to send comments to the OMB, Office of Information and Regulatory Affairs at the address shown in the ADDRESSES section within 30 days of publication of this notice in the Federal Register. In order to help ensure appropriate consideration, comments should reference OMB Control Number 1205-0352. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Title of Collection: Attestation by Employers Using Crewmembers for Longshore Activities at Locations in the State of Alaska.

OMB Control Number: 1205-0352.

Affected Public: Private Sector—Businesses or other for-profits.

Total Estimated Number of Respondents: 20.

Total Estimated Number of Responses: 20.

Total Estimated Annual Burden Hours: 60.

Total Estimated Annual Other Costs Burden: $0.

Dated: September 19, 2011.
Michel Smyth,
Departmental Clearance Officer.

[FR Doc. 2011-24481 Filed 9-22-11; 8:45 am]

BILLING CODE 4510-FP-P